DEPARTMENT OF LABOR

Office of the Secretary

Labor Affairs Council of the United States-Colombia Trade Promotion Agreement; Notice of Public Session Meeting

AGENCY: International Labor Affairs Bureau (ILAB), U.S. Department of Labor.

ACTION: Notice of Public Session Meeting, Rescheduled for June 5, 2013.

SUMMARY: Pursuant to Article 17.5 of the U.S.-Colombia Trade Promotion Agreement (TPA), the International Labor Affairs Bureau (ILAB) of the U.S. Department of Labor gives notice of the public session of the meeting of the Labor Affairs Council (“Council” or “LAC”). The LAC public session has been rescheduled and will be held the morning of June 5, 2013. The purpose of the public session is to provide an opportunity for the Council to meet with the public to discuss matters related to the implementation of Chapter 17 (the Labor Chapter) of the U.S.-Colombia TPA, including activities of the Labor Cooperation Mechanism established under Article 17.6 of the TPA.

DATES: The LAC public session will be held on Wednesday, June 5, 2013, from 10:30 a.m. to 12:30 p.m. DOL requests those interested in attending provide their name, title, and any organizational affiliation to Ryan Carrington, Office of Trade and Labor Affairs, ILAB, U.S. Department of Labor, 200 Constitution Avenue NW., Room S-5303, Washington, DC 20210; phone (202) 693-4873; fax (202) 693-4851 (this is not a toll free number); email (carrington.ryan@dol.gov) by Tuesday, May 28, 2013.

ADDRESSES: The LAC will meet at the U.S. Department of Labor, 200 Constitution Avenue NW., Washington, DC 20210. Exact room information will be provided upon arrival.

FOR FURTHER INFORMATION CONTACT: Ryan Carrington, Office of Trade and Labor Affairs, Bureau of International Labor Affairs, U.S. Department of Labor, 200 Constitution Avenue NW., Room S-5303, Washington, DC 20210; phone (202) 693-4873; carrington.ryan@dol.gov. Individuals with disabilities wishing to attend the meeting should contact Mr. Carrington no later than May 28, 2013, to obtain appropriate accommodations.

SUPPLEMENTARY INFORMATION: The LAC meeting is open to the public on a first-come, first-served basis, as seating is limited. Attendees must present valid identification and will be subject to security screening to access the Department of Labor for the meeting.

Agenda: Agenda items will include a presentation by the Council on the discussions held during the ministerial LAC meeting, and an opportunity for questions from the public on matters related to the implementation of the Labor Chapter of the U.S.-Colombia TPA.

Public Participation: The LAC will receive oral comments and questions on the agenda listed above from the audience during the meeting. The Department of Labor is also open to written comments or questions, submitted to Ryan Carrington at the address listed above, by May 28, 2013. Such written submissions will be provided to Council members and will be included in the record of the meeting.

Signed at Washington, DC, the 14th day of May 2013.
Carol Pier,
Acting Deputy Undersecretary, Bureau of International Labor Affairs.

[FR Doc. 2013-12026 Filed 5-20-13; 8:45 am]

BILLING CODE 4510-28-P